DEPARTMENT OF THE INTERIOR

Bureau of Reclamation

[INT-DES-00-39]

Rio Grande and Low Flow Conveyance Channel Between San Acacia Diversion Dam, NM, and the Narrows of Elephant Butte Reservoir, NM

AGENCY: Bureau of Reclamation, Interior.

ACTION: Notice of availability and notice of public hearings for the Draft Eenvironmental Impact Statement on the Rio Grande and Low Flow Conveyance Channel Modifications.

SUMMARY: Pursuant to the National Environmental Policy Act (NEPA) of 1969 (as amended), the Department of the Interior, Bureau of Reclamation (Reclamation), has prepared a Draft Environmental Impact Statement (DEIS) on modifications to the Rio Grande and Low Flow Conveyance Channel system. The proposed modifications are located downstream from San Marcial, New Mexico.

The purpose of the DEIS is to analyze the environmental impacts of the proposed modifications to the main channel of the Rio Grande and Low Flow Conveyance Channel system. The proposed channel system realignment would allow for efficient conveyance of water to Elephant Butte Reservoir, effective valley drainage, and effective sediment management. The proposed changes would also promote the protection and restoration of the riparian and riverine ecosystem in the project area.

The DEIS describes and analyzes the impacts of two alternatives that would realign the Low Flow Conveyance Channel and Rio Grande system to the west side of the Middle Rio Grande Valley. Other alternatives included are the No Action and Discontinue Maintenance Alternatives. The project, as proposed, would be implemented in phases over the next 4 to 11 years, depending upon flow conditions, sediment deposition, and other factors. An adaptive management process would be used to provide a structured but flexible management approach to the construction and maintenance of the realigned channel system.

DATES: A 60-day public review period commences with the publication of this notice. Written comments on the DEIS are due by November 7, 2000, and should be submitted to Mr. Art Coykendall at the address given below. Public hearings on the DEIS will be held during the months of October and November in Socorro, Albuquerque, and Las Cruces, New Mexico. The public hearings schedule is as follows:

• October 30, 2000, 7 to 9 p.m., Holiday Inn Express, 1100 California, N.E., Socorro, New Mexico.

• November 1, 2000, 7 to 9 p.m., Indian Pueblo Cultural Center, 2401 12th Street, N.W., Albuquerque, New Mexico.

• November 2, 2000, 7 to 9 p.m., New Mexico Farm and Ranch Heritage Museum, 4100 Dripping Springs Road, Las Cruces, New Mexico.

ADDRESSES: Written comments on the DEIS and requests for copies should be addressed to Mr. Art Coykendall, Bureau of Reclamation, Albuquerque Area Office, 505 Marquette Street, NW., Suite 1313, Albuquerque, New Mexico 87102-2162; telephone (505) 248-5351; faxogram (505) 248-5308; e-mail: acoykendall@uc.usbr.gov. The DEIS is also available on the Internet at www.uc.usbr.gov.

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

Copies of the DEIS are also available for public review and inspection at the following locations:

• Bureau of Reclamation, U.S. Department of the Interior, Room 7455, 18th and C Streets, NW, Washington, DC 20240.

• Bureau of Reclamation, Denver Office Library, Denver Federal Center, Building 67, Room 167, Denver, Colorado 80225.

• Bureau of Reclamation, Upper Colorado Regional Office, 125 South State Street, Room 6107, Salt Lake City, Utah 84138-1102.

• Bureau of Reclamation, Albuquerque Area Office, 505 Marquette Street, NW., Suite 1313, Albuquerque, New Mexico 87102-2162.

• Energy, Minerals and Natural Resources Department, Attention: Jennifer A. Salisbury, Secretary, 2040 South Pacheco Street, Santa Fe, New Mexico 87505.

Libraries

Albuquerque Public Library, Albuquerque

University of New Mexico Library, Albuquerque

Zimmerman Library, Albuquerque

New Mexico State Library, Santa Fe

New Mexico State University Library, Las Cruces

Socorro Public Library, Socorro

FOR FURTHER INFORMATION CONTACT: Mr. Art Coykendall, Bureau of Reclamation, Albuquerque Area Office, 505 Marquette Street, NW., Suite 1313, Albuquerque, New Mexico 87102-2162; telephone (505) 248-5351.

SUPPLEMENTARY INFORMATION: The Flood Control Acts of 1948 and 1950 authorize Reclamation to construct and maintain channel works on the Rio Grande between Velarde, New Mexico, and Caballo Reservoir. These works promote the efficient conveyance of water to Elephant Butte Reservoir. Channel works also assist in meeting water delivery obligations required by interstate compact and international treaty. They also assist in providing reliable valley drainage and contribute to the safe passage of flood waters. To ensure that these project purposes continue to be met effectively, Reclamation has proposed to modify the main channel of the Rio Grande and Low Flow Conveyance Channel system.

Factors prompting a reevaluation of the channel system include changes in the flow of the Rio Grande due to climatic variation and infrastructure changes. Chronic sediment management problems, anticipated reductions in federal funding, and new legal constraints on system operations, such as the Endangered Species Act, are also factors prompting this reevaluation.

Purpose and Need for Action

The purposes of the proposed federal action are to convey water to Elephant Butte Reservoir, maintain effective valley drainage, manage sediment, and protect and promote restoration of the riparian and riverine system to help meet the following needs:

• Fulfill obligations to deliver water to Mexico and as required under interstate water compact;

• Sustain agricultural production;

• Maintain high flow capacity in the river;

• Manage costs of system operation and maintenance; and

• Restore native species habitat.

Hearing Process Information

Oral comments at the hearings will be limited to 10 minutes. The hearing officer may allow any speaker to provide additional oral comments after all persons wishing to comment have been heard. All comments will be formally recorded. Speakers not present when called will lose their privilege in the scheduled order and will be recalled at the end of the scheduled speakers. Speakers are encouraged to provide written versions of their oral comments, and any other additional written materials, for the hearing record.

Written comments from those unable to attend or those wishing to supplement their oral presentations at the hearings should be received by Reclamation's Albuquerque Area Office at the address given above no later than November 7, 2000, for inclusion in the hearing record. Under the NEPA process, written and oral comments, received by the due date, are given the same consideration.

Dated: September 1, 2000.
Charles A. Calhoun,
Regional Director.

[FR Doc. 00-23145 Filed 9-7-00; 8:45 am]

BILLING CODE 4310-MN-U